DEPARTMENT OF DEFENSE

Defense Logistics Agency

Proposed Collection; Comment Request

AGENCY: Defense Logistics Agency, Defense Contract Management Command.

ACTION: Notice.

In compliance with Section 3506©(2)(A) of the Paperwork Reduction Act of 1995, the Defense Logistics Agency, Defense Contract Management Command, announces the proposed reinstatement of a public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 24, 2000.

ADDRESSES: Written comments and recommendations on the proposed information collection should be sent to Commander, Defense Contract Management Command, ATTN: Cdr Mark Feallock, DMCM-OI, 8725 John J. Kingman Rd., Fort Belvoir, VA 22060-6221.

FOR FURTHER INFORMATION CONTACT: To request more information on this proposed information collection or to obtain a copy of the proposal and associated collection instruments, please write to the above address, or call DCMC, Flight Operations Safety and Environment, at (703) 767-2444.

Title, Associated Form, and OMB Number: Request for Government Approval for Aircrew Qualifications and Training, DD Form 2627, OMN NO. 0704-0347; Request for Approval of Contractor Flight Crewmember, DD Form 2627, OMB NO. 0704-0347 (both forms have same OMB number).

Needs and Uses: The DD Form 2627 is used to request qualification training for contractor crewmembers. The DD Form 2628 requests approval for contractor personnel to function as a flight crewmember.

Affected Public: Individuals; business or other for profit; not-for-profit institutions; state, local or tribal government.

Annual Burden Hours: 7.

Number of Respondents: 42.

Responses per Respondent: 2.

Average Burden per Response: 5 minutes.

Frequency: On occasion.

SUPPLEMENTARY INFORMATION:

Summary of Information Collection

The requirement to have government approval of contract flight crewmembers is in Defense Logistics Agency Manual (DLAM) 8210.1, Contractor's Ground and Flight Operations, Vol 1, Chapter 6. The contractor provides a personal history and requests the government approve training in a particular type government aircraft (Form 2627). The contractor certifies the crewmember has passed a flight evaluation and, with the Form 2628, requests approval for the personnel to operate and fly government aircraft. Without the approvals, the contractor cannot use their personnel as requested.

Dated: February 16, 2000.
L.M. Bynum,
Alternate OSD Federal Register Liaison Officer, Department of Defense.

[FR Doc. 00-4282 Filed 2-23-00; 8:45 am]

BILLING CODE 5001-10-M